DEPARTMENT OF TRANSPORTATION

Federal Aviation Administration

Drone Advisory Committee: Notice of Charter Amendments

AGENCY: Federal Aviation Administration (FAA), Department of Transportation (DOT).

ACTION: Notice of charter amendments.

SUMMARY: This notice announces charter amendments of the Drone Advisory Committee, a Federal advisory committee that works with industry, community stakeholders, and the public to improve the development of the FAA's regulations. The charter amendments were filed with Congress and took effect on October 26, 2021. The Committee will operate for 2 years unless its charter is renewed in accordance with the Federal Advisory Committee Act.

FOR FURTHER INFORMATION CONTACT: Kamisha Walker or Gary Kolb, UAS Integration Office, Federal Aviation Administration, telephone (202) 267-4441; email kamisha.walker@faa.gov or gary.kolb@faa.gov.

SUPPLEMENTARY INFORMATION: Pursuant to section 14(a)(2)(A) of the Federal Advisory Committee Act (Pub. L. 92-463), the FAA is giving notice of amendments to the charter for the Drone Advisory Committee (DAC), which is renamed the Advanced Aviation Advisory Committee (AAAC). The DAC is a broad-based Federal advisory committee that provides the FAA with advice on key UAS integration issues by helping to identify challenges and prioritize improvements. The committee advises the DOT through the FAA on improving the efficiency and safety of integrating advanced aviation technologies—including unmanned aircraft systems (UAS) and advanced air mobility (AAM), into the National Airspace System (NAS)—while equipping and enabling communities to inform how UAS, AAM and other technologies may operate in ways that are beneficial to those communities. Members represent airports and airport communities; pilot and controller labor groups; local, state, and tribal governments; navigation, communication, surveillance, and air traffic management capability providers; research, development, and academia; agricultural interests, traditional piloted aviation operators; UAS hardware component manufacturers; UAS manufacturers; corporate UAS operators; citizen UAS Operators; UAS software application manufacturers; advanced air mobility; community advocates; and industry associations or other specific areas of interest as determined by the FAA Administrator or Secretary of Transportation. For more information see the AAAC website at: https://www.faa.gov/uas/programs_partnerships/advanced_aviation_advisory_committee/.

Issued in Washington, DC.
Erik W. Amend,
Manager, Executive Office, AUS-10, UAS Integration Office, Federal Aviation Administration.

[FR Doc. 2021-24511 Filed 11-9-21; 8:45 am]

BILLING CODE 4910-13-P